DEPARTMENT OF THE TREASURY

Office of Foreign Assets Control

Sanctions Actions Pursuant to Executive Order 13224

AGENCY: Office of Foreign Assets Control, Treasury.

ACTION: Notice.

SUMMARY: The Department of the Treasury's Office of Foreign Assets Control (OFAC) is publishing the names of 3 individuals whose property and interests in property are blocked pursuant to Executive Order 13224 of September 23, 2001, “Blocking Property and Prohibiting Transactions With Persons Who Commit, Threaten To Commit, or Support Terrorism.”

DATES: OFAC's actions described in this notice were effective on April 13, 2017.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic Availability

The SDN List and additional information concerning OFAC sanctions programs are available from OFAC's Web site (www.treas.gov/ofac).

Notice of OFAC Actions

On April 13, 2017, OFAC blocked the property and interests in property of the following 3 individuals pursuant to E.O. 13224, “Blocking Property and Prohibiting Transactions With Persons Who Commit, Threaten To Commit, or Support Terrorism”:

Individuals

1. AL-SAFRANI, Ali Ahmidah (a.k.a. AL SIFRANI, Ali; a.k.a. AS-SAFRANI, Ali Samida; a.k.a. ZAFRANI, Ali), Libya; DOB 1982; Gender Male (individual) [SDGT] (Linked To: ISLAMIC STATE OF IRAQ AND THE LEVANT).

2. HAMANI, Hamma (a.k.a. BANA, Hama; a.k.a. HAMANI, Mohammed; a.k.a. “DJANET, el Hadj Hama”); DOB 1967; POB Illizi, Algeria; nationality Algeria (individual) [SDGT] [LIBYA3] (Linked To: ISLAMIC STATE OF IRAQ AND THE LEVANT).

3. ZARQUN, Abd al Hadi (a.k.a. AL-WARFALI, Abdelhadi al-Hussain Zargoun; a.k.a. AL-WARFALLI, Abd al-Hadi Zarqun; a.k.a. EL-OUARFALI, Abdelhadi el-Houssein Zirgoune; a.k.a. ZARGON, Abdulhadi; a.k.a. ZARGOON, Al Hadi; a.k.a. ZARGUN, 'Abd Al-Hadi Al-Husayn Al-Shaybani; a.k.a. ZARGUN, Abd-al-Hadi; a.k.a. ZARQUN, 'Abd Al-Hadi Al-Husayn Al-Shaybani; a.k.a. ZARQUN, Abd-al-Hadi Al Husayn Al Shabani), Libya; DOB 1983; POB Sirte, Libya; nationality Libya; Gender Male; Passport H/188292 (Libya); National ID No. 123844 (Libya) (individual) [SDGT] (Linked To: ISLAMIC STATE OF IRAQ AND THE LEVANT).

Dated: April 13, 2017.
Andrea Gacki,
Acting Director, Office of Foreign Assets Control.

[FR Doc. 2017-07830 Filed 4-17-17; 8:45 am]

BILLING CODE 4810-AL-P